DEPARTMENT OF COMMERCE

International Trade Administration

[A-570-898]

Notice of Antidumping Duty Order: Chlorinated Isocyanurates from the People's Republic of China

AGENCY: Import Administration, International Trade Administration, Department of Commerce.

SUMMARY: Based on affirmative final determinations by the Department of Commerce (“the Department”) and the International Trade Commission (“ITC”), the Department is issuing an antidumping duty order on chlorinated Isocyanurates from the People's Republic of China (“PRC”). On June 17, 2005, the ITC notified the Department of its affirmative determination of material injury to a U.S. industry (Chlorinated Isocyanurates from China and Spain, Investigations Nos. 731-TA-1082-1083 (Final), USITC Publication 3782, June 2005).

EFFECTIVE DATE: June 24, 2005.

FOR FURTHER INFORMATION CONTACT: Alex Villanueva at (202) 482-3208 or Cindy Lai Robinson at (202) 482-3797; AD/CVD Operations, Office 9, Import Administration, International Trade Administration, U.S. Department of Commerce, 14th Street and Constitution Avenue NW, Washington, DC 20230.

SUPPLEMENTARY INFORMATION: The final determination in this investigation was published on May 10, 2005. See Notice of Final Determination of Sales at Less Than Fair Value: Chlorinated Isocyanurates From the People's Republic of China, 70 FR 24502 (May 10, 2005) (“Final Determination”).

Scope of the Order

The products covered by this order are chlorinated isocyanurates. Chlorinated isocyanurates are derivatives of cyanuric acid, described as chlorinated s-triazine triones. There are three primary chemical compositions of chlorinated isocyanurates: (1) trichloroisocyanuric acid (Cl3(NCO)3), (2) sodium dichloroisocyanurate (dihydrate) (NaClf2(NCO)3•2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, and 2933.69.6050 of the Harmonized Tariff Schedule of the United States (“HTSUS”). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

On July 1, 2004, Arch Chemicals, Inc. (“Arch”), an importer, argued that its patented, formulated, chlorinated isocyanurates tablet is not covered by the scope of the investigation. On December 10, 2004, the Department found that Arch's patented chlorinated isocyanurates tablet is included within the scope of this antidumping duty investigation. See Memorandum to Barbara E. Tillman, Acting Deputy Assistant Secretary for Import Administration, from Holly A. Kuga, Senior Office Director, Office 4, Re: Scope of the Antidumping Duty Investigations on Chlorinated Isocyanurates from the People's Republic of China and Spain, dated December 10, 2004, which is on file in the Central Records Unit (“CRU”), Room B-099 of the Main Commerce building, for a detailed discussion of comments submitted by Arch.

Antidumping Duty Order

On June 17, 2005, the ITC notified the Department of its final determination pursuant to section 735(b)(1)(A)(I) of the Tariff Act of 1930, as amended (“the Act”), that the industry in the United States producing chlorinated isocyanurates is materially injured by reason of less-than-fair-value imports of subject merchandise from the PRC. In addition, the ITC notified the Department of its final determination that critical circumstances do not exist with respect to imports of subject merchandise from the PRC that are subject to the Department's partial affirmative critical circumstances finding. Therefore, in accordance with section 736(a)(1) of the Act, the Department will direct U.S. Customs and Border Protection (“CBP”) to assess, upon further advice by the Department, antidumping duties equal to the amount by which the normal value of the merchandise exceeds the export price of the merchandise for all relevant entries of chlorinated isocyanurates from the PRC. These antidumping duties will be assessed on all unliquidated entries of chlorinated isocyanurates from the PRC entered, or withdrawn from the warehouse, for consumption on or after December 16, 2004, the date on which the Department published its Preliminary Determination. See Notice of Preliminary Determination of Sales at Less Than Fair Value and Postponement of Final Determination: Chlorinated Isocyanurates From the People's Republic of China, 69 FR 75293 (December 16, 2004) (“Preliminary Determination”).

With regard to the ITC negative critical circumstances determination, we will instruct CBP to lift suspension and to release any bond or other security, and refund any cash deposit made, to secure the payment of antidumping duties with respect to entries of the merchandise entered, or withdrawn from warehouse, for consumption on or after September 17, 2004, but before December 16, 2004. September 17, 2004, is 90 days prior to December 16, 2004, the date of publication of the Preliminary Determination in the Federal Register.

Section 733(d) of the Act states that instructions issued pursuant to an affirmative preliminary determination may not remain in effect for more than four months except where exporters representing a significant proportion of exports of the subject merchandise request the Department to extend that four-month period to no more than six months. At the request of exporters that account for a significant proportion of chlorinated isocyanurates, we extended the four-month period to no more than six months. See Preliminary Determination. In the investigation, the six-month period began on the date of the publication of the Preliminary Determination, December 16, 2004, and ended on June 13, 2005. Definitive duties are to begin on the date of publication of the ITC's final injury determination. See section 737 of the Act. Therefore, in accordance with section 733(d) of the Act and our practice, we will instruct CBP to terminate the suspension of liquidation and to liquidate, without regard to antidumping duties, unliquidated entries of chlorinated isocyanurates from the PRC entered, or withdrawn from warehouse, for consumption on or after June 14, 2005, and before the date of publication of the ITC's final injury determination in the Federal Register. Suspension of liquidation will continue on or after this date.

On or after the date of publication of the ITC's notice of final affirmative injury determination in the Federal Register, CBP will require, at the same time as importers would normally deposit estimated duties on this merchandise, a cash deposit equal to the estimated weighted-average antidumping duty margins noted below. The “PRC-Wide” rates apply to all exporters of subject merchandise not specifically listed. The weighted-average dumping margins are as follows:

Manufacturer/Exporter | Margin (percent)
Hebei Jiheng Chemical Co., Ltd. | 75.78
Nanning Chemical Industry Co., Ltd. | 285.63
Changzhou Clean Chemical Co., Ltd. | 137.69
Liaocheng Huaao Chemical Industry Co., Ltd. | 137.69
Sinochem Hebei Import & Export Corporation | 137.69
Sinochem Shanghai Import & Export Corporation | 137.69
PRC -Wide Rate | 285.63

This notice constitutes the antidumping duty order with respect to chlorinated isocyanurates from the PRC, pursuant to section 736(a) of the Act. Interested parties may contact the Department's Central Records Unit, Room B-099 of the main Commerce building, for copies of an updated list of antidumping duty orders currently in effect.

This order is published in accordance with section 736 (a) of the Act and 19 CFR 351.211.

Dated: June 21, 2005.
Joseph A. Spetrini,
Acting Assistant Secretary for Import Administration.

[FR Doc. E5-3299 Filed 6-23-05; 8:45 am]

BILLING CODE 3510-DS-S